DEPARTMENT OF AGRICULTURE

Forest Service

Forest Service Handbook 1109.12; Directive System Handbook; Providing Notice and Opportunity To Comment on Forest Service Directives

AGENCY: Forest Service, USDA.

ACTION: Notice of availability for public comment.

SUMMARY: The United States Department of Agriculture (USDA), United States Forest Service (Forest Service), is issuing proposed directives on providing notice and opportunity to comment on Forest Service directives. The proposed directives would implement recently revised Forest Service regulations governing public notice and comment on Forest Service directives.

DATES: Comments must be received in writing by March 16, 2020.

ADDRESSES: Comments may be submitted electronically to https://cara.ecosystem-management.org/Public/CommentInput?project=ORMS-2016. Written comments may be mailed to Michael Migliori, Program Analyst, Office of Regulatory and Management Services, 201 14th Street SW, Washington, DC 20024. All timely received comments, including names and addresses, will be placed in the record and will be available for public inspection and copying. The public may inspect comments received at https://cara.ecosystem-management.org/Public/ReadingRoom?project=ORMS-2016.

FOR FURTHER INFORMATION CONTACT: Michael Migliori, Program Analyst, 202-205-2496 or michael.migliori@usda.gov. Individuals using telecommunication devices for the deaf may call the Federal Information Relay Service at 800-877-8339 between 8:00 a.m. and 8:00 p.m. Eastern Time, Monday through Friday.

SUPPLEMENTARY INFORMATION: This proposed directive would set forth direction for providing public notice of and opportunity to comment on Forest Service directives. Specifically, this chapter provides direction for determining whether a directive requires public notice and opportunity for comment, procedures for providing public notice and opportunity to comment on directives, strategies for engaging the public in development of Forest Service directives, interagency and intergovernmental communication, including tribal consultation, consideration of public comments, and finalizing directives.

After the public comment period closes, the Forest Service will consider timely comments that are within the scope of this proposed directive in the development of the final directive. A notice of the final directive, including a response to timely comments, will be posted on the Forest Service's web page at https://www.fs.fed.us/about-agency/regulations-policies/comment-on-directives.

Dated: January 13, 2020.
Claudette Fernandez,
Deputy Chief, Business Operations.

[FR Doc. 2020-00668 Filed 1-15-20; 8:45 am]

BILLING CODE 3411-15-P